DEPARTMENT OF THE INTERIOR

Fish and Wildlife Service

Endangered Species Recovery Permit Applications

AGENCY: Fish and Wildlife Service, Interior.

ACTION: Notice of receipt of permit applications.

SUMMARY: The following applicants have applied for a survival enhancement permit to conduct certain activities with endangered species pursuant to section 10(a)(1)(A) of the Endangered Species Act (16 U.S.C. 1531 et seq.). The U.S. Fish and Wildlife Service (“we”) solicits review and comment from the public, and from local, State, and Federal agencies on the following permit requests.

DATES: Comments on these permit applications must be received on or before November 14, 2005.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION:

Permit No. TE-108679.

Applicant: Oregon Department of Transportation, Salem, Oregon.

The applicant requests a permit to take (survey by pursuit, harass, and kill) the Fender's blue butterfly (Icaricia icarioides fenderi) in conjunction with surveys and habitat restoration activities in Polk, Benton, Yamhill, and Lane Counties, Oregon; and take (harass by survey and translocate) the Oregon chub (Oregonichtys crameri) in conjunction with habitat creation and maintenance activities throughout the range of the species in Oregon for the purpose of enhancing their survival.

Permit No. TE-108680.

Applicant: EcoAnalysts, Inc., Moscow, Idaho.

The applicant requests a permit to take (capture and collect and sacrifice) the Snake River physa (Physa natracina), the Bruneau Hot springsnail (Pyrgulopsis bruneauensis), and the Banbury Springs limpet (Lanx sp.) in conjunction with surveys and population studies throughout the range of each species in Idaho for the purpose of enhancing their survival.

We solicit public review and comment on each of these recovery permit applications.

Dated: September 20, 2005.
David J. Wesley,
Regional Director, Region 1, U.S. Fish and Wildlife Service.

[FR Doc. 05-20379 Filed 10-11-05; 8:45 am]

BILLING CODE 4310-55-P